DEPARTMENT OF COMMERCE

National Oceanic and Atmospheric Administration

RIN 0648-XC541

Marine Mammals; File No. 17411

AGENCY: National Marine Fisheries Service (NMFS), National Oceanic and Atmospheric Administration (NOAA), Commerce.

ACTION: Notice; issuance of permit.

SUMMARY: Notice is hereby given that a permit has been issued to Dr. Jennifer Burns, University of Alaska Anchorage, Biology Department, Anchorage, AK, to conduct research on marine mammals.

ADDRESSES: The permit and related documents are available for review upon written request or by appointment in the following offices:

Permits and Conservation Division, Office of Protected Resources, NMFS, 1315 East-West Highway, Room 13705, Silver Spring, MD 20910; phone (301)427-8401; fax (301)713-0376; and

Southwest Region, NMFS, 501 West Ocean Blvd., Suite 4200, Long Beach, CA 90802-4213; phone (562)980-4001; fax (562)980-4018.

FOR FURTHER INFORMATION CONTACT: Tammy Adams or Amy Sloan, (301)427-8401.

SUPPLEMENTARY INFORMATION: On March 8, 2013, notice was published in the Federal Register (78 FR 14984) that a request for a permit to conduct research on Weddell seals (Leptonychotes weddellii) had been submitted by the above-named applicant. The requested permit has been issued under the authority of the Marine Mammal Protection Act of 1972, as amended (16 U.S.C. 1361 et seq.), and the regulations governing the taking and importing of marine mammals (50 CFR part 216).

The permit allows: capture of adult female Weddell seals of known-age and known-reproductive history in the Erebus Bay, Antarctica region for health assessments during reproductive and molt periods each year, to include blood samples, muscle/blubber/skin biopsies, morphometric measurements, and attachment of VHF/TDR/GPS tags; recapture of animals to retrieve instruments and collect additional measurements or samples; ground surveys of the population for molt status and demographic models; incidental harassment of crabeater seals (Lobodon carcinophagus) during surveys; mortality of adult female Weddell seals and dependent pups; and import of samples for analysis. The permit is valid through June 1, 2018.

In compliance with the National Environmental Policy Act of 1969 (42 U.S.C. 4321 et seq.), a final determination has been made that the activity proposed is categorically excluded from the requirement to prepare an environmental assessment or environmental impact statement.

Dated: July 12, 2013.
P. Michael Payne,
Chief, Permits and Conservation Division, Office of Protected Resources, National Marine Fisheries Service.

[FR Doc. 2013-17152 Filed 7-16-13; 8:45 am]

BILLING CODE 3510-22-P